DEPARTMENT OF COMMERCE

National Oceanic and Atmospheric Administration

RIN 0648-XA324

International Conservation and Management Measures Recognized by the United States

AGENCY: National Marine Fisheries Service (NMFS), National Oceanic and Atmospheric Administration (NOAA), Commerce.

ACTION: Notice.

SUMMARY: The High Sea Fishing Compliance Act (HSFCA) requires the Secretary of Commerce, in consultation with the Secretary of State, to publish from time to time in the Federal Register a list of international conservation and management measures recognized by the United States. To fulfill this requirement, a list of agreements resulting in international conservation and management measures was first published in the Federal Register in 1996. This notice provides an updated list of such agreements. The HSFCA and its implementing regulations prohibit the use of a fishing vessel on the high seas in contravention of international conservation and management measures, as well as specify the permitting and vessel identification requirements for fishing vessels of the United States operating on the high seas.

FOR FURTHER INFORMATION CONTACT: MiAe Kim, Trade and Marine Stewardship Division, Office of International Affairs, NMFS (phone 301-713-9090, fax 301-713-2313, or e-mail mi.ae.kim@noaa.gov).

SUPPLEMENTARY INFORMATION:

Background

The HSFCA is the United States' domestic legislation implementing the Agreement to Promote Compliance with International Conservation and Management Measures by Fishing Vessels on the High Seas (Compliance Agreement), adopted by the Conference of the Food and Agriculture Organization of the United Nations on November 24, 1993 and ratified by the United States in 1995. One of the purposes of the Compliance Agreement is to impose on nations whose fishing vessels operate on the high seas obligations to ensure the activities of those vessels do not undermine the effectiveness of international conservation and management measures for living marine resources.

As a party to the Compliance Agreement, the United States must ensure that its fishing vessels operating on the high seas do not undermine international measures to conserve and manage species of living marine resources that are adopted by global, regional, or subregional fisheries organizations, by treaties, or by other international agreements.

The term “international conservation and management measures” is defined in HSFCA, consistent with the Compliance Agreement, as “measures to conserve or manage one or more species of living marine resources that are adopted and applied in accordance with the relevant rules of international law, as reflected in the 1982 United Nations Convention on the Law of the Sea, and that are recognized by the United States. Such measures may be adopted by global, regional, or subregional fisheries organizations, subject to the rights and obligations of their members, or by treaties or other international agreements.”

International conservation and management measures fulfill a range of purposes, such as:

• Ensuring long-term sustainability and optimum utilization of fish stocks;

• Maintaining or restoring populations of species belonging to the same ecosystem or associated with or dependent upon target stocks;

• Minimizing catch by lost or abandoned gear and catch of non-target species; and

• Minimizing impacts on associated or dependent species through, to the extent practicable, the use of selective, environmentally safe and cost-effective fishing gear and techniques.

In the case of international conservation and management measures adopted by regional fisheries management organizations, the full text of such measures can be found on the Web sites of the respective organizations. These measures are subject to change. Measures may be adopted or modified based on information on stocks, bycatch, illegal fishing activities, and other issues. Sometimes the adoption of measures by regional fisheries management organizations is driven by study results or activities undertaken through other international bodies, such as resolutions adopted by the United Nations General Assembly and guidelines and plans of action developed under the auspices of the Food and Agriculture Organization of the United Nations. Certain international instruments can also influence the development of conservation and management measures by regional fisheries management organizations, such as the Agreement for the Implementation of the Provisions of the United Nations Convention on the Law of the Sea of 10 December 1982 Relating to the Conservation and Management of Straddling Fish Stocks and Highly Migratory Fish Stocks; the Agreement on Port State Measures to Prevent, Deter and Eliminate Illegal, Unreported and Unregulated Fishing; the Inter-American Convention for the Protection and Conservation of Sea Turtles; the Agreement on the Conservation of Albatrosses and Petrels; and instruments concluded under the framework of the Convention on the Conservation of Migratory Species of Wild Animals.

The international conservation and management measures adopted by regional fisheries management organizations of which the United States is a member are implemented in the United States, if applicable and as appropriate, through domestic legislation and corresponding regulations.

To undertake fishing operations on the high seas, the owner or operator of a United States fishing vessel must apply for a permit and follow regulations implementing HSFCA, found at 50 CFR part 300, subpart B. The Secretary has statutory and regulatory authority to include appropriate conditions and restrictions in individual permits. Taken together, the requirements of the HSFCA, as implemented by the regulations and permit conditions and restrictions, fulfill certain U.S. obligations and responsibilities under the Compliance Agreement with respect to its fishing vessels that operate on the high seas.

For purposes of the HSFCA, the Secretary, in consultation with the Secretary of State, has determined that all conservation and management measures for living marine resources set forth in, or adopted pursuant to, the following international agreements are included within the term “international conservation and management measures recognized by the United States.” For those agreements to which the United States is party, the term excludes measures to which the United States has lodged an objection or reservation, consistent with the terms of such agreement. At the time this notice was prepared, the United States had not objected to, or taken a reservation against, any such measures.

A list of agreements resulting in international conservation and management measures was first published in the Federal Register in 1996 (61 FR 11751, March 22, 1996). Where applicable, the updated list of agreements is organized by ocean areas and includes the organization created by the agreement.

Agreements to Which the United States Is Party

Atlantic Ocean

Convention for the Conservation of Salmon in the North Atlantic Ocean (Basic Instrument for the North Atlantic Salmon Conservation Organization—NASCO);

Convention on Future Multilateral Cooperation in the Northwest Atlantic Fisheries (Basic Instrument for the Northwest Atlantic Fisheries Organization—NAFO);

International Convention for the Conservation of Atlantic Tunas (Basic Instrument for the International Commission for the Conservation of Atlantic Tunas—ICCAT);

Pacific Ocean

Agreement on the International Dolphin Conservation Program (AIDCP);

Convention for the Conservation of Anadromous Stocks in the North Pacific Ocean (Basic Instrument for the North Pacific Anadromous Fish Commission—NPAFC);

1949 Convention for the Establishment of an Inter-American Tropical Tuna Commission (Basic Instrument for the Inter-American Tropical Tuna Commission—IATTC); ¹

¹ On August 27, 2010, the Convention for the Strengthening of the Inter-American Tropical Tuna Commission Established by the 1949 Convention Between the United States of America and the Republic of Costa Rica (“Antigua Convention”) entered into force for countries that have deposited their instrument of ratification. Pursuant to Article XXXI of the Antigua Convention, the 1949 Convention for the Establishment of an Inter-American Tropical Tuna Commission will be considered terminated upon the entry into force of the Antigua Convention for all Parties to the 1949 Convention. The United States is a party to the 1949 Convention and signatory to the Antigua Convention. As of the date of this Federal Register notice, the United States has not ratified the Antigua Convention. Therefore the 1949 Convention remains the basis of the United States' membership in the Inter-American Tropical Tuna Commission.

Convention on the Conservation and Management of Pollock Resources in the Central Bering Sea;

Treaty on Fisheries between the Governments of Certain Pacific Island States and the Government of the United States of America (South Pacific Tuna Treaty—SPTT);

Convention for the Conservation and Management of Highly Migratory Fish Stocks in the Western and Central Pacific Ocean (Basic Instrument for the Western and Central Pacific Fisheries Commission—WCPFC);

Southern Ocean

Convention on the Conservation of Antarctic Marine Living Resources (Basic Instrument for the Commission for the Conservation of Antarctic Marine Living Resources—CCAMLR);

Convention for the Conservation of Antarctic Seals (CCAS);

Other

Convention for the Prohibition of Fishing with Long Driftnets in the South Pacific Ocean; and

International Convention for the Regulation of Whaling (Basic Instrument for the International Whaling Commission—IWC).

Agreements To Which the United States Is Not Party

Agreement for the Establishment of the Indian Ocean Tuna Commission (Basic instrument of the Indian Ocean Tuna Commission—IOTC);

Convention on the Conservation and Management of Fisheries Resources in the Southeast Atlantic Ocean (Basic instrument for the South East Atlantic Fisheries Organization—SEAFO);

Convention for the Strengthening of the Inter-American Tropical Tuna Commission Established by the 1949 Convention Between the United States of America and the Republic of Costa Rica (“Antigua Convention”; Basic instrument for the Inter-American Tropical Tuna Commission—IATTC);

Convention for the Conservation of Southern Bluefin Tuna (Basic instrument for the Commission on the Conservation of Southern Bluefin Tuna—CCSBT);

Convention on Future Multilateral Cooperation in North-East Atlantic Fisheries (Basic instrument for the North-East Atlantic Fisheries Commission—NEAFC); and

Agreement between the Government of the Kingdom of Norway and the Government of the USSR Concerning Cooperation in the Field of Fisheries.

This listing of “international conservation and management measures recognized by the United States” will be revised and updated from time to time by publication in the Federal Register. The inclusion or exclusion of items from this listing is without prejudice to any positions or views the United States Government may take or express with regard to such items in the future. This notice is not intended to and does not otherwise operate to amend, supplement, revise or supersede the regulations implementing the HSFCA at 50 CFR 300.15.

Authority: 16 U.S.C. 5501-5509.

Dated: May 12, 2011.
Samuel D. Rauch III,
Deputy Assistant Administrator for Regulatory Programs, National Marine Fisheries Service.

[FR Doc. 2011-12339 Filed 5-18-11; 8:45 am]

BILLING CODE 3510-22-P